NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 31, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001. E-mail: records.mgt@nara.gov. FAX: 301-837-3698. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, Office of Acquisition Management (N1-40-05-1, 1 item, 1 temporary item).

Information concerning agency employees responsible for acquiring and managing goods and services. Records, which are maintained in a web-based system, include data concerning employees' education, training, contract warrants, certifications, and contact information.

2. Department of Labor, Bureau of International Labor Affairs (N1-174-02-4, 44 items, 16 temporary items). Program records of the Bureau, including files relating to such matters as international visitor programs, cooperative activities, technical assistance to foreign countries, grant programs, and immigration policy. Also included are electronic copies of records created using electronic mail and word processing. Proposed for permanent retention are recordkeeping copies of such records as significant management and policy files, program files for major Bureau components, publications, international and advisory committee files, trade policy files, and research project files.

3. Department of Transportation, Bureau of Transportation Statistics (N1-398-04-19, 3 items, 3 temporary items). Records relating to the publication of notices in the Federal Register, including such records as drafts, final notices, newspaper clippings, and press releases. Also included are electronic copies of records created using electronic mail and word processing. This schedule authorizes the agency to apply the proposed disposition instructions to any recordkeeping medium.

4. Department of Transportation, Bureau of Transportation Statistics (N1-398-04-20, 3 items, 3 temporary items). Records relating to the agency's responses to internal and external audits, evaluations, and investigations. Included are such records as correspondence, position papers, work plans, studies, and tracking documents. Also included are electronic copies of records created using electronic mail and word processing. This schedule authorizes the agency to apply the proposed disposition instructions to any recordkeeping medium.

5. Department of Transportation, Bureau of Transportation Statistics (N1-398-04-23, 12 items, 12 temporary items). Reports filed by domestic air carriers regarding such matters as finances, freight losses, scheduled arrival performance, unaccommodated passengers, discounts, and credit extended to political candidates. Also included are electronic copies of records created using electronic mail and word processing. This schedule authorizes the agency to apply the proposed disposition instructions to any recordkeeping medium.

6. Department of Transportation, Federal Highway Administration (N1-406-04-5, 5 items, 3 temporary items). Electronic copies of records created using electronic mail and word processing that are associated with planning, numbering, and designating interstate highways. Also included are duplicate copies of these records. Recordkeeping copies of these files are proposed for permanent retention.

7. National Archives and Records Administration, Government-wide (N1-GRS-04-4, 9 items, 9 temporary items). Addition to the General Records Schedules covering records accumulated by Chief Information Officers. Included are records relating to such matters as information technology program planning, enterprise architecture, IT capital investments, legal and regulatory compliance, the activities of committees, and schedules of daily activities. Also included are electronic copies of records created using electronic mail and word processing.

8. National Archives and Records Administration, Office of Human Resources and Information Services (N1-64-05-2, 4 items, 4 temporary items). Case files relating to information technology projects, including records documenting various stages of the project such as concept development, system testing, and approvals. Also included are electronic copies of records created using electronic mail and word processing. This schedule authorizes the agency to apply the proposed disposition instructions to any recordkeeping medium.

9. National Archives and Records Administration, Office of the Federal Register (N1-64-05-3, 4 items, 4 temporary items). Inquiries from researchers and the general public concerning publications, policies, and procedures of the Federal Register and other Government publications. Also included are electronic copies of records created using electronic mail and word processing.

10. Small Business Administration, Office of Capital Access (N1-309-04-1, 8 items, 8 temporary items). Inputs, outputs, master files, and documentation associated with an electronic system which contains information concerning the Small Business Investment Company interim funding process and the New Markets Venture Capital Program. Also included are electronic copies of documents created using word processing and electronic mail.

Dated: December 9, 2004.
Michael J. Kurtz,
Assistant Archivist for Records Services—Washington, DC.

[FR Doc. 04-27537 Filed 12-15-04; 8:45 am]

BILLING CODE 7515-01-P